DEPARTMENT OF HOMELAND SECURITY

Coast Guard

33 CFR Part 100

[Docket No. USCG-2022-0225

Special Local Regulations; Marine Events Within the Fifth Coast Guard District

AGENCY: Coast Guard, DHS.

ACTION: Notification of enforcement of regulation.

SUMMARY: The Coast Guard will enforce a special local regulation for the Bay Bridge Paddle on September 25, 2022, to provide for the safety of life on navigable waterways during this event. Our regulation for marine events within the Fifth Coast Guard District identifies the regulated area for this event between Sandy Point State Park and Kent Island, MD. During the enforcement period, the operator of any vessel in the regulated area must comply with directions from the Patrol Commander or any Official Patrol displaying a Coast Guard ensign.

DATES: The regulations in 33 CFR 100.501 will be enforced for the Bay Bridge Paddle regulated area listed in table 2 to paragraph (i)(2) of § 100.501 from 7 a.m. to 1 p.m. on September 25, 2022.

FOR FURTHER INFORMATION CONTACT: If you have questions about this notification of enforcement, call or email MST2 Courtney Perry, Sector Maryland-National Capital Region Waterways Management Division, U.S. Coast Guard; telephone 410-576-2596, email Courtney.E.Perry@uscg.mil.

SUPPLEMENTARY INFORMATION: The Coast Guard will enforce a special local regulation for the Bay Bridge Paddle regulated area from 7 a.m. to 1 p.m. on September 25, 2022. This action is being taken to provide for the safety of life on navigable waterways during this event. Our regulation for marine events within the Fifth Coast Guard District § 100.501, specifies the location of the regulated area for the Bay Bridge Paddle. As reflected in § 100.501(d)(1), during the enforcement periods if you are the operator of a vessel in the regulated area you must comply with directions from the Patrol Commander or any Official Patrol displaying a Coast Guard ensign.

In addition to this notification of enforcement in the Federal Register, the Coast Guard plans to provide notification of this enforcement period via the Local Notice to Mariners and a marine information broadcast.

Dated: August 11, 2022.
James R. Bendle,
Commander, U.S. Coast Guard, Acting Captain of the Port Maryland-National Capital Region.

[FR Doc. 2022-17623 Filed 8-15-22; 8:45 am]

BILLING CODE 9110-04-P